FEDERAL COMMUNICATIONS COMMISSION

47 CFR Part 73

[MB Docket No. 21-9; RM-11872; DA 21-1161; FR ID 49364]

Television Broadcasting Services Tulsa, Oklahoma

AGENCY: Federal Communications Commission.

ACTION: Final rule.

SUMMARY: On May 17, 2021, the Media Bureau, Video Division (Bureau) issued a Notice of Proposed Rulemaking (NPRM) in response to a petition for rulemaking filed by KTUL Licensee, LLC (Licensee), the licensee of KTUL, channel 10 (ABC), Tulsa, Oklahoma, requesting the substitution of channel 14 for channel 10 at Tulsa in the DTV Table of Allotments. For the reasons set forth in the Report and Order referenced below, the Bureau amends FCC regulations to substitute channel 14 for channel 10 at Tulsa.

DATES: Effective October 25, 2021.

FOR FURTHER INFORMATION CONTACT: Joyce Bernstein, Media Bureau, at (202) 418-1647 or Joyce Bernstein@fcc.gov.

SUPPLEMENTARY INFORMATION: The proposed rule was published at 86 FR 13684 on March 10, 2021. The Licensee filed comments in support of the petition reaffirming its commitment to apply for channel 14. The Land Mobile Communications Council (LMCC) filed opposition comments, to which the Licensee filed a reply. LMCC also filed an ex parte letter opposing the petition.

In its rulemaking petition, the Licensee stated that KTUL, as a VHF channel station, has a long history of dealing with severe reception problems, and that operation on channel 14 would not result in any predicted loss of television service. The Licensee further stated that with respect to operations on channel 14 and nearby land mobile services, it would install the appropriate mask filter and antenna needed to avoid interference to land mobile operations. LMCC opposed the channel substitution because it believes KTUL's operation on channel 14 at 1,000 kW power poses an unacceptable risk of harmful interference to protected land mobile operations and proposed that that the Commission investigate whether alternative substitute UHF channels are available for KTUL. LMCC believes that while installing filtering, as the Licensee proposes, may be effective at preventing certain interference issues, it will have no impact on the receiver desensitization it expects will occur from the Licensee's proposed operation. In its Reply, the Licensee asserted that section 73.687 of the rules states that once a channel 14 permittee has performed the required pre-operation steps to avoid land mobile interference, including installing filters and making outreach efforts to local operators, its obligation is to co-operate with land mobile operators to resolve interference issues that may arise that are caused by the station after it begins operations, which the Licensee commits to do. The Licensee further stated that it had searched for other viable UHF channels and found none. In addition, the Licensee states that its affiliated stations have considerable experience operating television stations on channel 14, and there have been no known instances of interference to land mobile operations. The Licensee also provided technical information regarding the common use of band stop filters by land mobile systems to deal with receiver desensitization. In its ex parte filing in response to the Licensee's reply, LMCC primarily repeats its previous arguments in opposition to the petition.

The Bureau denied LMCC's objections and granted the proposed substitution of channel 14 for channel 10, concluding that the Licensee's proposal meets the Commission's technical and interference rules, and that grant would serve the public interest. While LMCC stated that it is concerned that there will be interference to large numbers of land mobile systems within 40 miles of the channel 14 proposed transmission site, the Bureau stated that the majority of interference cases occur within five miles of the TV transmitter site, that KTUL's tower is located more than five miles outside Tulsa, and that the few instances of reported interference in other cases where television stations have operated on channel 14 and the separation was greater than five miles were resolved by the installation of filters. The Bureau also noted that the Commission has recognized that use of band-stop filters at the land mobile receiver is an effective procedure to reduce interference caused by receiver desensitization, and that the Licensee recognizes its obligation under the rules to correct any desensitization problems that may occur after it begins operations. With respect to LMCC's request that the Bureau find an alternative channel for KTUL, the Licensee stated that it could find no other technically feasible channel and Bureau found that the channels proposed by LMCC were all unavailable for the Licensee's use because of interference to other television stations. The Bureau concluded that since the Licensee has committed to perform the steps required by the rule and its construction permit, if granted, will have the standard condition requiring it to do so, it would deny LMCC's opposition. It also concluded that because it was at the stage of amending the DTV Table of Allotments and an application for a construction permit for channel 14 has not yet been submitted, it need not address LMCC's interpretation of section 73.687(e) of the rules.

This is a synopsis of the Commission's Report and Order, MB Docket No. 21-9; RM-11872; DA 21-1161, adopted September 15, 2021, and released September 16, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622, in paragraph (i), amend the Post-Transition Table of DTV Allotments, under Oklahoma, by revising the entry for “Tulsa” to read as follows:

§ 73.622 Digital television table of allotments.

* * * * *

(i) * * *

Community | Channel No.
* * * * *
OKLAHOMA
* * * * *
Tulsa | 8, * 11, 14, 22, 45, 47, 49.
* * * * *

[FR Doc. 2021-20635 Filed 9-23-21; 8:45 am]

BILLING CODE 6712-01-P